DEPARTMENT OF AGRICULTURE

Rural Utilities Service

Lawrence County Generation Plant; Notice of Finding of No Significant Impact

AGENCY: Rural Utilities Service, USDA.

ACTION: Notice of finding of no significant impact.

SUMMARY: Notice is hereby given that the Rural Utilities Service (RUS), pursuant to the National Environmental Policy Act of 1969, as amended, the Council on Environmental Quality regulations (40 CFR Parts 1500-1508), and 7 CFR Part 1794, Environmental Policies and Procedures, has made a finding of no significant impact (FONSI) with respect to a project proposed by Hoosier Energy Rural Electric Cooperative, Inc., (Hoosier Energy) located in Bloomington, Indiana, and Wabash Valley Power Association, Inc. (Wabash Valley), located in Indianapolis, Indiana. The proposed project will have six units of natural gas fired simple-cycle combustion turbines of 43 megawatts (MW) each for a total of 258 MW. The proposed plant will be located in Lawrence County, Indiana. Wabash Valley applied for assistance from RUS to finance the construction of the proposed project.

FOR FURTHER INFORMATION CONTACT: Nurul Islam, Environmental Protection Specialist, RUS, Engineering and Environmental Staff, Stop 1571, 1400 Independence Avenue, SW, Washington, DC 20250-1571, telephone: (202) 720-1414, or e-mail: nislam@rus.usda.gov. Information is also available from Ms. Sheila M. Wheeler, Burns & McDonnell Engineering Company, Inc., 9400 Ward Parkway, Kansas City, Missouri 64114, telephone: (816) 822-3250, or e-mail: swheele@burnsmcd.com.

SUPPLEMENTARY INFORMATION: Rural Utilities Service, in accordance 7 CFR 1794.42, published a notice of availability of the environmental assessment (EA) for the proposed project and solicited public comments. Hoosier Energy and Wabash Valley also published notices of availability of the EA in local newspapers seeking comments on the proposed project. Notices were published twice in the Bedford Times Mail and Mitchell Tribune, a daily and weekly newspaper, respectively.

Agencies that reviewed and provided comments on the EA are (1) Indiana Department of Environmental Management (IDEM); (2) U.S. Environmental Protection Agency (EPA); (3) Hoosier National Forest (National Forest), U.S. Department of Agriculture; (4) U.S. Army Corps of Engineers (COE), Louisville District, and (5) Indiana Department of Natural Resources, Division of Historic Preservation & Archaeology. Appropriate responses to the above agency comments are presented in the FONSI statement prepared for the project. Environmental coordination will continue with IDEM and other agencies as appropriate on various environmental issues during planning and construction of the project. Hoosier Energy and Wabash Valley have already secured or will secure the following approval or permits prior to initiation of construction of the project as needed: (1) A storm water permit; (2) a wastewater treatment facility construction permit; (3) a permit to construct in a floodway, and (4) a National Pollution Discharge Elimination System permit.

Hoosier Energy and Wabash Valley agreed to follow all agency recommendations and mitigation measures discussed in the EA. Based on the EA, RUS has concluded that the proposed action will not have a significant effect to various resources, including important farmland, floodplains, wetlands, cultural resources, threatened and endangered species and their critical habitat, air and water quality, and noise. RUS has also determined that there would be no disproportionately high and adverse human health or environmental effects on minority populations and low-income populations as a result of construction of the project. RUS has concluded that the impacts of the proposed project would not be significant and the proposed action is not a major federal action significantly affecting the quality of the human environment. Therefore, the preparation of an environmental impact statement is not necessary.

Copies of the EA and FONSI can be reviewed at RUS at the address provided in this notice, at the headquarters of Hoosier Energy, 7398 North State Road 37, Bloomington, Indiana 47402, telephone: (812) 876-0374, and Wabash Valley, 722 North High School Road, Indianapolis, Indiana 46214, telephone: (317) 481-2842, and also at Bedford Public Library, 1323 K Street, Bedford, Indiana 47421, telephone: (812) 275-4471, and Mitchell Community Public Library, 804 Main Street, Mitchell, Indiana 47446, telephone: (812) 849-2412.

Any final action by RUS related to this proposed project will be subject to, and contingent upon, compliance with all relevant Federal environmental laws and regulations and completion of environmental review procedures as prescribed by the 7 CFR Part 1794, Environmental Policies and Procedures.

Dated: June 5, 2003.
Alfred Rodgers,
Acting Assistant Administrator, Electric Program, Rural Utilities Service.

[FR Doc. 03-14721 Filed 6-10-03; 8:45 am]

BILLING CODE 3410-15-P